DEPARTMENT OF AGRICULTURE

Submission for OMB Review; Comment Request

September 17, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Nahms Beef 2007-08 Study.

OMB Control Number: 0579-New.

Summary of Collection: Collection and dissemination of animal health and poultry data and information is mandated by 7 U.S.C. 391, the Animal Industry Act of 1884, which established the precursor of the Animal and Plant Health Inspection Service (APHIS), Veterinary Services, the Bureau of Animal Industry. Collection, analysis, and dissemination of livestock and poultry health information on a national basis are consistent with the APHIS mission of protecting and improving American agriculture's productivity and competitiveness. The National Animal Health Monitoring System (NAHMS) national studies have evolved into a collaborative industry and government initiative to help determine the most effective means of preventing and controlling diseases of livestock.

Need and Use of the Information: APHIS plans to conduct the Beef 2007-08 Study as part of an ongoing series of NAHMS studies on the U.S. livestock population. The purpose of this third beef study is to collect information, through questionnaires and biologic sampling, to: (1) Describe trends in beef cow-calf health and management practices, (2) evaluate management factors related to beef quality assurance, (3) describe recordkeeping practices on cow-calf operations, (4) determine producer awareness of bovine viral diarrhea (BVD) and management practices used for BVD control, (5) describe current biosecurity practices and producer motivation for implementing or not implementing biosecurity practices, and (6) determine the prevalence and antimicrobial resistance patterns of potential food-safety pathogens.

This information will help the United States detect trends in the management, production, and health status of the Nation's beef industry over time.

Description of Respondents: Business or Other For-Profit.

Number of Respondents: 4,000.

Frequency of Responses: Reporting: On Occasion.

Total Burden Hours: 12,742.

On July 13, 2007, the 60-day notice was published as 0579-0079 the agency has decided to submit this as a new collection under 0579-New.

Ruth Brown,
Departmental Information Collection Clearance Officer.

[FR Doc. E7-18611 Filed 9-20-07; 8:45 am]

BILLING CODE 3410-34-P